SECURITIES AND EXCHANGE COMMISSION

[Release No. 34-43865; File No. SR-OPRA-01-01]

Options Price Reporting Authority; Notice of Filing and Immediate Effectiveness of Amendment to OPRA Plan To Establish Certain Notification Requirements of the Plan Processor and To Make Minor Editorial Revisions

January 22, 2001.

Pursuant to Rule 11Aa3-2 under the Securities Exchange Act of 1934 (“Act”),¹ notice is hereby given that on January 16, 2001, the Options Price Reporting Authority (“OPRA”),² submitted to the Securities and Exchange Commission (“Commission”) an amendment to the Plan for Reporting of Consolidated Options Last Sale Reports and Quotation Information (“Plan”). The amendment would establish certain notification requirements of the Plan Processor and make minor editorial revisions to the Plan. OPRA has stated that the proposed amendment involves solely technical or ministerial matters and is, therefore, effective upon filing, pursuant to Rule 11Aa3-2(c)(3)(iii) under the Act.³ The Commission is publishing this notice to solicit comments on the proposed amendment from interested persons.

¹ 17 CFR 240.11Aa3-2.

² OPRA is a national market system plan approved by the Commission pursuant to Section 11A of the Exchange Act, 15 U.S.C. 78k-1, and Rule 11Aa3-2 thereunder, 17 CFR 240.11Aa3-2. See Securities Exchange Act Release No. 17638 (March 18, 1981). The OPRA Plan provides for the collection and dissemination of last sale and quotation information on options that are traded on the participant exchanges. The five signatories to the OPRA Plan that currently operate an options market are the American Stock Exchange, the Chicago Board Options Exchange, the International Securities Exchange, the Pacific Exchange, and the Philadelphia Stock Exchange. The New York Stock Exchange is a signatory to the OPRA Plan, but sold its options business to the Chicago Board Options Exchange in 1997. See Securities Exchange Act Release No. 38542 (April 23, 1997), 62 FR 23521 (April 30, 1997).

³ 17 CFR 240.11Aa3-2(c)(3)(iii).

I. Description and Purpose of the Amendment

On November 27, 2000, the Commission approved an amendment to the Plan,⁴ pursuant to section 11A(a)(3)(B) of the Act ⁵ and Rule 11Aa3-2(b)(2)⁶ thereunder. The Commission Amendment established a formula for allocating OPRA systems capacity among the OPRA participants during peak usage periods. The purpose of the proposed amendment is to conform the language added to the Plan by the Commission Amendment to the language and style of the remainder of the Plan, and to make additional nonsubstantive editorial changes to the Commission Amendment language to clarify its meaning and operation. The proposed amendment also would require the Plan Processor to notify each party and the Commission whenever total systems capacity reaches 90 percent of total available systems capacity or whenever the capacity allocation procedures provided for in the Plan go into effect or are discontinued. OPRA has stated that, except for these notification provisions, the proposed amendment would make no substantive change to the provisions of the Plan that were added pursuant to the Commission Amendment.

⁴ See Securities Exchange Act Release No. 43621 (November 27, 2000), 65 FR 75564 (December 1, 2000) (“Commission Amendment”).

⁵ 15 U.S.C. 78k-1(a)(3)(B).

⁶ 17 CFR 240.11Aa3-2(b)(2).

II. Solicitation of Comments

OPRA has stated that the proposed amendment involves solely technical or ministerial matters and is, therefore, effective upon filing, pursuant to Rule 11Aa3-2(c)(3)(iii) under the Act.⁷

⁷ 17 CFR 240.11Aa3-2(c)(3)(iii).

At any time within 60 days of the filing of the amendment, the Commission may summarily abrogate the amendment and require that such amendment be filed in accordance with Rule 11Aa3-2(b)(1) under the Act ⁸ and reviewed in accordance with rule 11Aa3-2(c)(2) under the Act ⁹ if it appears to the Commission that such action is necessary or appropriate in the public interest, for the protection of investors, or the maintenance of fair and orderly markets; to remove impediments to, and perfect the mechanisms of, a national market system; or otherwise in furtherance of the purposes of the Act.

⁸ 17 CFR 240.11Aa3-2(b)(1).

⁹ 17 CFR 240.11Aa3-2(c)(2).

Interested persons are invited to submit written data, views, and arguments concerning the foregoing, including whether the proposed plan amendment is consistent with the Act. Persons making written submissions should file six copies thereof with the Secretary, Securities and Exchange Commission, 450 Fifth Street NW., Washington, DC 20549-0609. Copies of the submission, all subsequent amendments, and all written statements with respect to the proposed plan amendment that are filed with the Commission, and all written communications relating to the proposed plan amendment between the Commission and any person, other than those withheld from the public in accordance with the provisions of 5 U.S.C. 552, will be available for inspection and copying in the Commission's Public Reference Room. Copies of the filing will also be available at the principal offices of OPRA. All submissions should refer to File No. SR-OPRA-01-01 and should be submitted by February 20, 2001.

For the Commission, by the Division of Market Regulation, pursuant to delegated authority.¹⁰
¹⁰ 17 CFR 200.30-3(a)(29).
Margaret H. McFarland,
Deputy Secretary.

[FR Doc. 01-2473 Filed 1-26-01; 8:45 am]

BILLING CODE 8010-01-M